DEPARTMENT OF HEALTH AND HUMAN SERVICES

National Institutes of Health

Center for Scientific Review; Amended Notice of Meeting

Notice is hereby given of a change in the meeting of the Urologic and Kidney Development and Genitoruinary Diseases Study Section, June 28, 2004, 8:30 a.m. to June 28, 2004, 5 p.m., The Fairmont, Washington, DC 20401, M Street, NW., Washington, DC 20037 which was published in the Federal Register on June 10, 2004, 69 FR 32600-32604.

The meeting will be two days June 28, 2004 to June 29, 2004. The meeting time and location remain the same. The meeting is closed to the public.

Dated: June 24, 2004.
LaVerne Y. Stringfield,
Director, Office of Federal Advisory Committee Policy.

[FR Doc. 04-15020 Filed 7-1-04; 8:45 am]

BILLING CODE 4140-01-M